ENVIRONMENTAL PROTECTION AGENCY

40 CFR Part 745

[EPA-HQ-OPPT-2023-0231; FRL-8524-03-OCSPP]

RIN 2070-AK91

Reconsideration of the Dust-Lead Hazard Standards and Dust-Lead Post-Abatement Clearance Levels; Correction

AGENCY: Environmental Protection Agency (EPA).

ACTION: Final rule; correction.

SUMMARY: The Environmental Protection Agency (EPA) is making corrections to a final rule that appeared in the Federal Register of November 12, 2024, that finalized several revisions to EPA's lead-based paint (LBP) regulations. Subsequent to publication, the Office of the Federal Register (OFR) informed the Agency that there were errors in the amendatory instructions that describe specific revisions for two sections of the regulation. The corrections to the amendatory instructions will allow for the proper revisions to be incorporated into the Code of Federal Regulations (CFR).

DATES: This final rule correction is effective January 13, 2025.

ADDRESSES: The docket for this action, identified by docket identification (ID) number EPA-HQ-OPPT-2023-0231, is available online at https://www.regulations.gov. Additional information about dockets generally, along with instructions for visiting the docket in-person, is available at https://www.epa.gov/dockets.

FOR FURTHER INFORMATION CONTACT:

For technical information: Claire Brisse, Existing Chemicals Risk Management Division (7404M), Office of Pollution Prevention and Toxics, Environmental Protection Agency, 1200 Pennsylvania Ave. NW, Washington, DC 20460-0001; telephone number: (202) 564-9004; email address: brisse.claire@epa.gov.

For general information on lead: The National Lead Information Center, 422 South Clinton Avenue, Rochester, NY 14620; telephone number: (800) 424-LEAD [5323]; online form: https://www.epa.gov/lead/forms/lead-hotline-national-lead-information-center.

For general information on TSCA: The TSCA Hotline, ABVI-Goodwill, 422 South Clinton Ave., Rochester, NY 14620; telephone number: (202) 554-1404; email address: TSCA-Hotline@epa.gov.

For hearing- or speech-impaired assistance: Persons may reach the telephone numbers for the contacts through TTY by calling the toll-free Federal Communications Commission's Telecommunications Relay Service at 711.

SUPPLEMENTARY INFORMATION: EPA is correcting the final rule that published in the Federal Register of November 12, 2024 (89 FR 89459 (FRL-8524-02-OCSPP)) to address two errors where EPA inadvertently omitted important text within the amendatory instructions:

1. The first error appears in amendatory instruction 15a, which directs the OFR to revise paragraph (e)(5) in 40 CFR 745.225, however, since the set-out text for paragraph (e)(5) does not include the subordinate paragraphs to paragraph (e)(5), the instruction should direct the OFR to revise the introductory text of paragraph (e)(5).

2. The second error appears in amendatory instruction 17b, which directs the OFR to revise paragraph (e)(8)(v) of 40 CFR 745.227, however, since the set-out text for paragraph (e)(8)(v) does not include the subordinate paragraphs to paragraph (e)(8)(v), the instruction should direct the OFR to revise the introductory text of paragraph (e)(8)(v).

Correction

In FR Doc. 2024-25070, appearing on page 89416 in the Federal Register of November 12, 2024, the following correction is made:

§ 745.225 [Corrected]

▪ 1. On page 89459, in the first column, correct instruction 15a to read as follows:

“▪ a. Revising paragraphs (b)(1) introductory text, (c)(13)(vi), (c)(14)(iii), (d)(1)(vi), (d)(3)(xi), (d)(4)(v), (d)(7)(v), (e)(5) introductory text, and (f)(2);”

§ 745.227 [Corrected]

▪ 2. On page 89460, in the first column, correct instruction 17b to read as follows:

“▪ b. Revising paragraphs (c)(2)(i), (iv) and (v), (d)(3) and (5), (d)(6)(ii), (d)(7), (e)(4)(ii) and (vii), (e)(8) introductory text, (e)(8)(i) through (v), (vii) and (viii), (e)(9) introductory text, (e)(9)(ii) and (iii), and (e)(10)(iv) and (v);”

Dated: December 6, 2024.
Michal Freedhoff,
Assistant Administrator, Office of Chemical Safety and Pollution Prevention.

[FR Doc. 2024-29423 Filed 12-13-24; 8:45 am]

BILLING CODE 6560-50-P